DEPARTMENT OF THE INTERIOR

Fish and Wildlife Service

[FWS-R7-NWRS-2024-0032; FXRS126107ISLAN-245-FF07R02000]

Notice of Intent To Prepare an Environmental Impact Statement for Rat Eradication From Four Uninhabited Aleutian Islands; Alaska Maritime National Wildlife Refuge, AK

AGENCY: Fish and Wildlife Service, Interior.

ACTION: Notice of intent; request for comments.

SUMMARY: We, the Fish and Wildlife Service, intend to prepare an environmental impact statement (EIS) for a proposed project to eradicate nonnative rats from four uninhabited islands (Amchitka, Attu, Great Sitkin, and Kiska Islands) located in the Alaska Maritime National Wildlife Refuge. The U.S. Department of Agriculture's Animal and Plant Health Inspection Service is a cooperating agency on the EIS. We invite comments for consideration in establishing the scope and content of the EIS from the public and local, State, Tribal, and Federal agencies.

DATES:

Submitting comments: We must receive written data or comments by November 7, 2024.

Public meeting: The Service will hold a public scoping meeting in Anchorage, Alaska. A virtual participation option will also be available. If you wish to participate virtually, contact the person in FOR FURTHER INFORMATION CONTACT no later than two days prior to the meeting. The date, time, and location of the meeting will be announced through local media and social media, and on the project website (https://www.fws.gov/ratfreealeutians).

ADDRESSES: You may submit scoping comments by any one of the following methods:

• In-person: At the public scoping meeting, you may submit written comments to Service personnel or to the court reporter monitoring the meeting and typing up a record.

• Online: https://www.regulations.gov. Search for and submit comments on Docket No. FWS-R7-NWRS-2024-0032.

• U.S. mail: Public Comments Processing, Attn: Docket No. FWS-R7-NWRS-2024-0032; U.S. Fish and Wildlife Service, MS: PRB/3W; 5275 Leesburg Pike; Falls Church, VA 22041-3803.

For more information, see “Public Comment Procedures” under SUPPLEMENTARY INFORMATION.

FOR FURTHER INFORMATION CONTACT: Steve Delehanty, Refuge Manager, via telephone at 907-226-4627, via email at steve_delehanty@fws.gov, or via U.S. mail at U.S. Fish and Wildlife Service, Alaska Maritime National Wildlife Refuge, 95 Sterling Highway, Homer, AK, 99603. Please also visit the project website at https://www.fws.gov/aleutianrateis. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the Fish and Wildlife Service (Service), intend to prepare an environmental impact statement (EIS) pursuant to the National Environmental Policy Act (NEPA; 42 U.S.C 4321 et seq.), the Council on Environmental Quality's regulations for implementing NEPA (40 CFR parts 1500-1508), and the Department of the Interior's NEPA regulations (43 CFR part 46) for a proposed project to eradicate nonnative rats from four uninhabited islands (Amchitka, Attu, Great Sitkin, and Kiska Islands) located in the Alaska Maritime National Wildlife Refuge (Refuge). The U.S. Department of Agriculture's Animal and Plant Health Inspection Service (APHIS) is a cooperating agency on the EIS. We invite comments from the public and local, State, Tribal, and Federal agencies on the scope of the analysis, potential alternatives, and identification of relevant information, studies, and analyses.

Purpose and Need for the Proposed Action

The purpose of the proposed action is to eradicate nonnative rats from Amchitka, Attu, Great Sitkin, and Kiska Islands in the Aleutian archipelago, in order to eliminate their impacts on native species and to restore natural island ecosystems. Nonnative rats occur on these four uninhabited islands, where they have impacted native wildlife populations and altered natural ecosystem function.

The Refuge encompasses over 1.9 million hectares and several thousand coastal islands in Alaska. The long-term management strategies for the Refuge are guided by its record of decision for its Final Comprehensive Conservation Plan/Environmental Impact Statement and Wilderness Review (plan) (FWS 1988). The wildlife management goal of the selected management alternative in the plan is to protect existing fish and wildlife populations and habitats, restore endangered and other species to natural levels, and increase opportunities for wildlife viewing and other nonconsumptive uses. One of the strategies identified to meet this goal is the eradication of introduced predators and rodents. Many Refuge islands have had accidental and intentional introductions of nonendemic mammals (e.g., Arctic and red fox, ground squirrel, Norway rat, house mouse, caribou, reindeer, cattle, and Arctic and European hare). Although new introductions are prohibited, accidental introductions, particularly of rodents, are still of great concern.

Action is needed because rats have invaded at least 12 large islands in the Aleutian Island archipelago, including Amchitka, Attu, Great Sitkin, and Kiska Islands, and the diversity and numbers of breeding birds are conspicuously low on islands with established populations of introduced rats, which is consistent with worldwide observations of the devastating direct impacts of introduced rats on seabirds. Most of the Aleutian Islands lying within the Refuge provide important breeding habitat for seabirds, including many bird species for which the Aleutians provide a substantial portion of their worldwide range. Rat-caused modifications to other components of the island ecosystems (e.g., other birds, plants, and invertebrates) are also evident.

The restoration of Aleutian ecosystems through eradications of introduced predators has long been identified as a management priority for the Refuge. Introduced foxes have been removed from over 40 islands in the Aleutians, while Norway rats have been successfully eradicated from 1. In 2008, the Refuge and partner organizations demonstrated that Norway rats could be successfully eradicated from Hawadax Island, and that the eradication could have a positive impact on native wildlife communities.

Post-eradication monitoring found significant recoveries of terrestrial birds and shorebirds, and the initial recolonization or recovery of marine birds 5 years after eradication. Intertidal ecosystem recovery was also documented 11 years post-eradication.

Proposed Action and Possible Alternatives

The Service intends to eradicate nonnative rats from four uninhabited islands in the Refuge. The islands are remote, and eradication efforts would be undertaken one single island at a time, with years between efforts on each island. The Service is currently considering four preliminary alternatives and a no-action alternative. The Service will identify a preferred alternative in the final EIS. The following alternatives are preliminary and may be revised based on public input and internal considerations.

• Alternative 1: The no-action alternative, in which nonnative rats remain on islands.

• Alternative 2: This alternative proposes rat eradication primarily using bait pellets containing the rodenticide brodifacoum.

• Alternative 3: This alternative proposes rat eradication primarily using bait pellets containing the rodenticide diphacinone.

• Alternative 4: This alternative analyzes rat eradication using emerging genetic biocontrol technology to limit propagation or survival.

• Alternative 5: This alternative analyzes rat eradication primarily using bait pellets containing the rodenticide norbormide.

Summary of Expected Impacts

The overall impact of the proposed action of eradicating nonnative rats is anticipated to have a beneficial effect on the islands' ecosystems. However, the EIS analysis will focus on the potential significant impacts of each alternative. The Service anticipates impacts to occur to, but not be limited to, the following resources from any or all of the proposed alternatives:

• Access to public lands

• Air quality and climate

• Aquatic and marine environments, including anadromous and non- anadromous fish and invertebrate species

• Cultural and historical resources

• Designated Wilderness

• Endangered Species Act-listed species

• Marine mammals

• Migratory birds, including bald eagles

• Public health and safety

• Socioeconomics, including impacts to subsistence and recreational fisheries

• Water quality

Anticipated Permits and Authorities

The proposed action may require the following permits or approvals:

• Alaska Department of Fish and Game Wildlife Nuisance permit

• Alaska Department of Natural Resources Fish Habitat permit

• Alaska Native Claims Settlement Act section 14(h)(1) private land permission

• Bald and Golden Eagle Protection Act permit

• Clean Water Act permit

• Endangered Species Act section 7 consultation

• Federal Insecticide, Fungicide, and Rodenticide Act section 3 pesticide labels

• Magnuson-Stevens Fisheries Conservation Act consultations for essential fish habitat

• Marine Mammal Protection Act authorization

• Migratory Bird Treaty Act

• Pesticide Use Proposal

• State Historic Preservation Office section 106 consultation under the National Historic Preservation Act

• Water Pollution Control Act of 1948, as amended, National Pollutant Discharge Elimination System permit

Schedule for the Decision-Making Process

The Service will review and consider comments received during scoping and incorporate substantive comments while writing the draft EIS. The Service anticipates completion of the draft EIS in spring 2026, at which time we will publish a Federal Register notice of availability requesting public comments. We will also hold a public meeting on the draft EIS. We anticipate making the final EIS available to the public in fall 2026. In accordance with 40 CFR 1506.10, a record of decision shall not be made or issued for a minimum of 30 days after the publication of the final EIS.

Public Comment Procedures

Public Availability of Comments

If you submit a comment at https://www.regulations.gov, your entire comment, including any personal identifying information, will be posted on the website. If you submit a hardcopy comment that includes personal identifying information, such as your address, phone number, or email address, you should be aware that your entire comment, including your personal identifying information, may be made publicly available at any time. While you can ask us in your hardcopy comment to withhold your personal identifying information from public review, we cannot guarantee that we will be able to do so.

How To Request Reasonable Accommodations

For assistance at a scoping meeting, please contact the point of contact in FOR FURTHER INFORMATION CONTACT. Information regarding this project will be made available in alternate formats upon request.

Socheata Lor,
Acting Regional Director, Alaska Region.

[FR Doc. 2024-21714 Filed 9-20-24; 8:45 am]

BILLING CODE 4333-15-P